DEPARTMENT OF VETERANS AFFAIRS

Privacy Act of 1974; Report of Matching Program

AGENCY: Department of Veterans Affairs.

ACTION: Notice of computer matching program.

SUMMARY: Notice is hereby given that the Department of Veterans Affairs (VA) intends to continue a recurring computer matching program matching Social Security Administration (SSA) records with VA pension and parents' dependency and indemnity compensation (DIC) records.

The purpose of the match is to compare income status as reported to VA with records maintained by SSA. VA plans to match records of beneficiaries who receive pension and DIC with the Master Beneficiary Record (MBR) and the Earnings Recording and Self-Employment Income System (MEF) maintained by SSA.

VA will use this information to update the master records of VA beneficiaries receiving income dependent benefits and to adjust VA benefit payments as prescribed by law. The matching program will enable VA to ensure accurate reporting of income.

Records to be Matched: The VA records involved in the match are the VA system of records, Compensation, Pension, Education and Rehabilitation Records—VA (58 VA 21/22). The SSA records consist of the SSA Master beneficiary Record (MBR), SSA/OSR, 60-0090. In the absence of MBR data, SSA will attempt to verify the SSN in VA records using the SSA Earnings Recording and Self-Employment Income System (MEF), SSA/OSR, 60-0059.

This notice is provided in accordance with the provisions of the Privacy Act of 1974 as amended by Public Law 100-503.

DATES: The match will start no sooner than 30 days after publication in the Federal Register and end not more than 18 months after the agreement is properly implemented by the parties. The involved agencies' Data Integrity Boards (DIB) may extend this match for 12 months provided the agencies certify to their DIBs within three months of the ending date of the original match that the matching program will be conducted without change and that the matching program has been conducted in compliance with the original matching program.

ADDRESSES: Mail or hand-deliver written comments to: Director, Regulations Management (00REG1), Department of Veterans Affairs, 810 Vermont Avenue, NW., Washington, DC 20420. All comments received will be available for public inspection in the Office of Regulation Policy and Management, Room 1158, 810 Vermont Avenue, NW., Washington, DC 20420, between 8 a.m. and 4:30 p.m., Monday through Friday except holidays.

FOR FURTHER INFORMATION CONTACT: Paul Trowbridge (212B), (202) 273-7218.

SUPPLEMENTARY INFORMATION: This information is required by title 5 U.S.C. 552a(e)(12), the Privacy Act of 1974. A copy of this notice has been provided to both Houses of Congress and OMB.

Approved: December 12, 2003.
Anthony J. Principi,
Secretary of Veterans Affairs.

[FR Doc. 03-31508 Filed 12-22-03; 8:45 am]

BILLING CODE 8320-01-P